ENVIRONMENTAL PROTECTION AGENCY

[EPA-HQ-OAR-2011-0901; FRL-10588-01-OMS]

Agency Information Collection Activities; Submission to the Office of Management and Budget for Review and Approval; Comment Request; Prevention of Significant Deterioration and Nonattainment New Source Review (Renewal)

AGENCY: Environmental Protection Agency (EPA).

ACTION: Notice.

SUMMARY: The Environmental Protection Agency (EPA) has submitted an information collection request (ICR), Prevention of Significant Deterioration and Nonattainment New Source Review (EPA ICR Number 1230.34, OMB Control Number 2060-0003), to the Office of Management and Budget (OMB) for review and approval in accordance with the Paperwork Reduction Act. This is a proposed extension of the ICR, which is currently approved through January 31, 2023. Public comments were previously requested via the Federal Register on April 8, 2022, during a 60-day comment period. This notice allows for 30 days for public comments.

DATES: Comments may be submitted on or before February 21, 2023.

ADDRESSES: Submit your comments to EPA, referencing Docket ID No. EPA-HQ-OAR-2011-0901, online using www.regulations.gov (our preferred method), or by email to a-and-r-docket@epa.gov. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Ben Garwood, Air Quality Policy Division, Office of Air Quality Planning and Standards, C504-03, U.S. Environmental Protection Agency, Research Triangle Park, NC 27709; telephone number: (919) 541-1358; fax number: (919) 541-4028; email address: garwood.ben@epa.gov.

SUPPLEMENTARY INFORMATION: This is a proposed extension of the ICR, which is currently approved through January 31, 2023. An agency may not conduct or sponsor and a person is not required to respond to a collection of information unless it displays a currently valid OMB control number.

Public comments were previously requested via the Federal Register on April 8, 2022 during a 60-day comment period (87 FR 20855). This notice allows for an additional 30 days for public comments. Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR is for activities related to the implementation of the EPA's New Source Review (NSR) program for the time period between February 1, 2023, and January 31, 2025. Title I, part C of the Clean Air Act (CAA or the Act), Prevention of Significant Deterioration, and part D, Plan Requirements for Nonattainment Areas, require all states to adopt preconstruction review programs for new or modified stationary sources of air pollution. The provisions of section 110 of the Act include a requirement for states to have a preconstruction review program to manage the emissions from the construction and modification of any stationary source of air pollution to assure that the National Ambient Air Quality Standards are achieved and maintained. Tribes may choose to develop implementation plans to address these requirements.

Implementing regulations for these three programs are promulgated at 40 CFR 49.101 through 49.105; 40 CFR 49.151 through 49.173; 40 CFR 51.160 through 51.166; 40 CFR part 51, appendix S; and 40 CFR 52.21 and 52.24. In order to receive a construction permit for a major new source or major modification, the applicant must conduct the necessary research, perform the appropriate analyses, and prepare the permit application with documentation to demonstrate that their project meets all applicable statutory and regulatory NSR requirements. Specific activities and requirements are listed and described in the ICR Supporting Statement.

State, local, tribal, or federal reviewing authorities review permit applications and provide for public review of proposed projects and issue permits based on their consideration of all technical factors and public input. The EPA, more broadly, reviews a fraction of the total applications and audits the state and local programs for their effectiveness. Consequently, information prepared and submitted by sources is essential for sources to receive permits, and for federal, state, tribal, and local environmental agencies to adequately review the permit applications and thereby properly administer and manage the NSR programs.

Information that is collected is handled according to the EPA's policies set forth in title 40, chapter 1, part 2, subpart B—Confidentiality of Business Information (see 40 CFR part 2). See also section 114(c) of the Act.

Form numbers: 5900-246, 5900-247, 5900-248, 5900-340, 5900-341, 5900-342, 5900-343, 5900-344, 5900-367, 5900-368, 5900-369, 5900-370, 5900-371, 5900-372, 5900-390, 5900-391, and 6700-06.

Respondents/affected entities: Those which must apply for and obtain a preconstruction permit under part C or D or section 110(a)(2)(C) of title I of the Act. In addition, state, local, and tribal reviewing authorities that must review permit applications and issue permits are affected entities.

Respondent's obligation to respond: Mandatory [see 40 CFR part 49, subpart C; 40 CFR part 51, subpart I; 40 CFR part 52, subpart A; 40 CFR part 124, subparts A and C].

Estimated number of respondents: 30,359 (total); 30,236 industrial facilities and 123 state, local, and tribal reviewing authorities.

Frequency of response: On occasion, as necessary.

Total estimated burden: 2,970,503 hours (per year). Burden is defined at 5 CFR 1320.03(b).

Total estimated cost: $242,352,032 (per year). This includes $3,772,240 annually in outsourced start-up costs for preconstruction monitoring.

Changes in estimates: There is no change in the hours in the total estimated respondent burden compared with the ICR currently approved by OMB because the estimated number of permits of each type has not changed. There is a slight increase in estimated costs as labor costs have been updated from 2016 to 2019 labor rates.

Courtney Kerwin,
Director, Regulatory Support Division.

[FR Doc. 2023-00969 Filed 1-18-23; 8:45 am]

BILLING CODE 6560-50-P